DEPARTMENT OF HOUSING AND URBAN DEVELOPMENT

[Docket No. FR 5478-N-01]

Privacy Act of 1974; Notice of a Computer Matching Program Between HUD and the United States Department of Veterans Affairs (VA)

AGENCY: Office of the Chief Information Officer, HUD.

ACTION: Notice of a computer matching program between the HUD and VA.

SUMMARY: In accordance with the Privacy Act of 1974 (5 U.S.C. 552a), as amended by the Computer Matching and Privacy Protection Act of 1988 (Pub. L. 100-503), and the Office of Management and Budget (OMB) Guidelines on the Conduct of Matching Programs (June 19, 1989, 54 FR 25818), and OMB Bulletin 89-22, “Instructions on Reporting Computer Matching Programs to the Office of Management and Budget (OMB), Congress and the Public,” HUD is issuing a public notice of its intent to conduct a recurring computer matching program with VA to utilize HUD's Credit Alert Interactive Verification Response System (CAIVRS), with VA's debtor files. Additionally, the record to be matched section was updated to reflect HUD's new Privacy Act Systems of Records involved in the CAIVRS matching program. This update does not change the authority and the objectives of the existing HUD and VA computer matching program.

DATES: Effective Date: The effective date of the matching program shall begin April 8, 2011 or 40 days from the date copies of the signed (by both HUD and VA's Data Integrity Boards (DIBs)) computer matching agreement is sent to both Housing of Congress and the Office of Management and Budget (OMB), whichever is later, providing no comments are received which will result in a contrary determination.

Comments Due Date: April 8, 2011.

ADDRESSES: Interested persons are invited to submit comments regarding this notice to the Rules Docket Clerk, Office of General Counsel, HUD, 451 Seventh Street, SW., Room 10276, Washington, DC 20410. Communications should refer to the above docket number and title. A copy of each communication submitted will be available for public inspection and copying between 8 a.m. and 5 p.m. weekdays at the above address.

FOR FURTHER INFORMATION CONTACT: From the “Recipient Agency” contact the Chief Privacy Officer, HUD, 451 Seventh Street, SW., Room 2256, Washington, DC 20410, telephone number (202) 402-8073. From the “Source Agency” contact Jorgeana Williams, Debt Management Center, U.S. Department of Veteran Affairs, Bishop Henry Whipple Federal Building, Room 156E, 1 Federal Drive, Ft. Snelling, MN 55111, telephone number (612) 970-5703. These are not toll-free numbers. A telecommunication device for hearing- and speech-impaired individuals (TTY) is available at (800) 877-8339 (Federal Information Relay Service).

SUPPLEMENTARY INFORMATION: HUD's data in the CAIVRS database includes delinquent debt information from the Department of Education, Veterans Affairs, Department of Justice, and the Small Business Administration. This match will allow prescreening of applicants for debts owed or loans guaranteed by the Federal government to ascertain if the applicant is delinquent in paying a debt owed to or insured by the Federal government for HUD or VA direct or guaranteed loans. Before granting a loan, the lending agency and/or the authorized lending institution will be able to prescreen the CAIVRS debtor files which contains the Social Security Numbers (SSNs) of HUD and VA delinquent debtors and defaulters to verify that the loan applicant is not in default or delinquent on a direct or guaranteed loans of participating federal programs of either agency. As a result of the information produced by this match, the authorized users may not deny, terminate, or make a final decision of any loan assistance to an applicant or take other adverse action against such applicant, until an officer or employee of such agency has independently verified such information.

Reporting of a Matching Program: In accordance with the Computer Matching and Privacy Protection Act of 1988 (Pub. L. 100-503), as amended, and Office of Management and Budget (OMB), Congress and the Public;” copies of this notice and report are being provided to the Office of Management and Budget (OMB), the Senate Committee on Homeland Security and Governmental Affairs, and the House Committee on Oversight and Government Reform.

Authority: The matching program will be conducted pursuant to “The Computer Matching and Privacy Protection Act of 1988 (Pub. L. 100-503),” as amended, and OMB Circular A-129 (Revised January 1993), Policies for Federal Credit Program and Non-Tax Receivables. One of the purposes of all Executive departments and agencies-including HUD-is to implement efficient management practices for Federal credit programs. OMB Circular A-129 was issued under the authority of the Budget and Accounting Act of 1921, as amended; the Budget and Accounting Act of 1950, as amended; the Debt Collection Act of 1982, as amended; and, the Deficit Reduction Act of 1984, as amended.

Objectives to Be Met by the Matching Program: The matching program will allow VA access to a system which permits prescreening of applicants for loans owed or guaranteed by the Federal government to ascertain if the applicant is delinquent in paying a debt owed to or insured by the Government. In addition, HUD will be provided access to VA debtor data for prescreening purposes.

Records To Be Matched: HUD will use records from its systems of records HUD/SFH-01, Single Family Default Monitoring System; HUD/SFH-02, Single Family Insurance System CLAIMS Subsystem; HUD/HS-55, Debt Collection Asset Management System; and HUD/HS-59, Single Family Mortgage Asset Recovery Technology. The debtor files for programs involved are included in these systems of records. HUD's debtor files contain information on borrowers and co-borrowers who are currently in default (at least 90 days delinquent on their loans) or who have had their partial claim subordinate mortgage called due and payable and it has not been repaid in full or who have any outstanding claims paid during the last three years on a Title I insured or guaranteed home mortgage loan. VA will provide HUD with data from 88VA244, Accounts Receivable Records—VA. The exchange of data is consistent with routine use 17 of 88VA244. The 88VA244, Accounts Receivable Records was originally published in the Federal Register on April 6, 1998 (63 FR 16865). VA is responsible for the integrity of the data transmitted to HUD. VA will retain ownership and responsibility for their system of records that they place with HUD. HUD serves only as a record location and routine use recipient for VA's data.

Notice Procedures: HUD and VA will notify individuals at the time of application (ensuring that routine use appears on the application form) for guaranteed or direct loans that their records will be matched to determine whether they are delinquent or in default on a federal debt. HUD and VA will also publish notices concerning routine use disclosures in the Federal Register to inform individuals that a computer match may be performed to determine a loan applicant's credit status with the federal government.

Categories of Records/Individuals Involved: The debtor records include these data elements: SSN, claim number, program code, and indication of indebtedness. Categories of records include: Records of claims and defaults, repayment agreements, credit reports, financial statements, and records of foreclosures. Categories of individuals include: Former mortgagors and purchasers of HUD-owned and home improvement loan debtors who are delinquent or default on their loans or who have had their partial claim subordinate mortgage called due and payable and it has not been repaid in full.

Period of the Match: Matching is expected to begin at least 40 days from the date copies of the signed (by both HUD and VA's Data Integrity Boards) computer matching agreement are sent to both Houses of Congress or at least 30 days from the date this notice is published in the Federal Register, which ever is later, providing no comments are received which would result in a contrary determination. The matching program will be in effect and continue for 18 months with an option to renew the agreement for 12 additional months unless one of the parties to the agreement advises the other in writing to terminate or modify the agreement.

Dated: February 28, 2011.
Kevin R. Cooke,
Deputy Chief Information Officer.

[FR Doc. 2011-5265 Filed 3-8-11; 8:45 am]

BILLING CODE 4210-67-P